DEPARTMENT OF ENERGY

Federal Energy Regulatory Commission

Notice of Designation of Commission Staff as Non-Decisional

Allocation of Capacity on New Merchant Transmission Projects and New Cost-Based, Participant-Funded Transmission Projects | Docket No. AD12-9-000.
Priority Rights to New Participant-Funded Transmission | Docket No. AD11-11-000.
Puget Sound Energy, Inc. | Docket No. EL10-72-001.
National Grid Transmission Services Corporation Bangor Hydro Electric Company | Docket No. EL11-49-000.
Rock Island Clean Line LLC | Docket No. ER12-365-000.

With respect to the workshop to be held by Commission staff on February 28, 2012 in Docket No. AD12-9-000, the following Commission staff are designated as non-decisional in deliberations by the Commission in this docket: Robert McLean, Office of the General Counsel; David Faerberg, Office of the General Counsel; David Maranville, Office of the General Counsel; and David Hunger, Office of Energy Policy and Innovation. Accordingly, pursuant to 18 CFR 385.2202 (2010), they will not serve as advisors to the Commission with respect to any of the above-referenced dockets. Likewise, as non-decisional staff, pursuant to 18 CFR 385.2201 (2010), they are prohibited from communicating with advisory staff concerning any deliberations with respect to the above-referenced dockets.

Dated: February 27, 2012.
Nathaniel J. Davis, Sr.,
Deputy Secretary.

[FR Doc. 2012-5064 Filed 3-1-12; 8:45 am]

BILLING CODE 6717-01-P